INTERNATIONAL TRADE COMMISSION

[Investigation No. 337-TA-819]

Certain Semiconductor Chips With DRAM Circuitry, and Modules and Products Containing Same Determination Not To Review an Initial Determination To Amend the Complaint and Notice of Investigation

AGENCY: U.S. International Trade Commission.

ACTION: Notice.

SUMMARY: Notice is hereby given that the U.S. International Trade Commission has determined not to review an initial determination (“ID”) (Order No. 7) to amend the complaint and notice of investigation to add allegations of infringement of claims 5, 17, 18, 21, and 29 of U.S. Patent No. 7,495,453 against respondents Nanya Technology Corporation of TaoYuan, Taiwan and Nanya Technology Corporation, U.S.A. of Santa Clara, California.

FOR FURTHER INFORMATION CONTACT: Clark S. Cheney, Office of the General Counsel, U.S. International Trade Commission, 500 E Street SW., Washington, DC 20436, telephone 202-205-2661. Copies of non-confidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on December 21, 2011, based on a complaint filed by Elpida Memory, Inc. of Tokyo, Japan and Elpida Memory (USA) Inc. of Sunnyvale, California (collectively, “Elpida”). 76 FR 79215 (Dec. 21, 2011). The complaint alleged violations of section 337 of the Tariff Act of 1930, as amended (19 U.S.C. 1337), by reason of infringement of various claims of seven United States patents. The Commission issued a notice of investigation naming Nanya Technology Corporation of TaoYuan, Taiwan and Nanya Technology Corporation, U.S.A. of Santa Clara, California (collectively, “Nanya”) as respondents.

On February 13, 2012, Elpida filed a motion to amend the complaint and notice of investigation to assert five additional claims from one of the seven patents originally asserted against Nanya. The claims in question are claims 5, 17, 18, 21, and 29 of U.S. Patent No. 7,495,453. On February 22, 2012, Nanya opposed the motion to amend.

On May 10, 2012, the ALJ issued the subject ID (Order No. 7) granting the motion to amend the complaint and notice of investigation. No petitions for review of the ID were filed.

The Commission has determined not to review the ID.

The authority for the Commission's determination is contained in section 337 of the Tariff Act of 1930, as amended (19 U.S.C. 1337), and in section 210.42(h)(3) of the Commission's Rules of Practice and Procedure (19 CFR 210.42(h)(3)).

By order of the Commission.
Issued: May 31, 2012.
Lisa R. Barton,
Acting Secretary to the Commission.

[FR Doc. 2012-13542 Filed 6-4-12; 8:45 am]

BILLING CODE 7020-02-P